Title 3—

The President

Proclamation 9307 of August 14, 2015

National Employer Support of the Guard and Reserve Week, 2015

By the President of the United States of America

A Proclamation

The United States military is the finest fighting force the world has ever known—not just because of our weapons or technology, but because of the spirit, skill, and selflessness of our devoted military personnel. For more than two centuries, patriotic Americans have served our Nation and protected our values, making enormous sacrifices to defend freedom and democracy here at home and around the globe. Today, the women and men of the National Guard and Reserve carry forward this proud legacy with honor and distinction. During National Employer Support of the Guard and Reserve Week, we salute our country's citizen-warriors and the families, employers, and communities who support them.

More than one million citizen-Soldiers, Sailors, Airmen, Marines, and Coast Guardsmen protect our Nation as Guardsmen and Reservists. Beyond serving their communities, raising their families, and playing a vital part in America's workforce, these heroes find time throughout the year to train and prepare for new challenges and missions in the event their Nation needs them. With unmatched skill and professionalism, they have answered our country's call to serve—responding to disasters in the United States and carrying out tours of duty far from home, including in Afghanistan and Iraq.

As a Nation, we must make it our mission to serve all our military members as well as they serve us—and this includes supporting their families, who step up and make enormous sacrifices while their loved ones are away from home. My Administration will continue to provide our unwavering support and ensure all those who sacrifice for our Nation have access to the services, benefits, and care they deserve. And as part of First Lady Michelle Obama and Dr. Jill Biden's Joining Forces initiative, we are encouraging all Americans to do their part to lift up our heroes. Around our country, communities and business leaders have recognized that they too can help America meet its obligations to the women and men of the Guard and Reserve by providing workplace flexibility and opportunities for advancement in their civilian careers. As Commander in Chief, I am grateful to our employers and business leaders who go above and beyond to ease the burden on those who serve, and I encourage all Americans to join in their efforts.

Our Nation has made a sacred promise to all members of the Armed Forces, and every person can play a part in honoring that promise. This week, we celebrate the women and men who keep our country safe and defend the way of life we cherish. As a Nation, let us join together to thank our Guardsmen and Reservists, as well as their employers—who know the value service brings to the workplace, who see service members as an essential part of their teams, and whose support is vital to the readiness and strength of the greatest fighting force on Earth.

NOW, THEREFORE, I, BARACK OBAMA, President of the United States of America, by virtue of the authority vested in me by the Constitution and the laws of the United States, do hereby proclaim August 16 through August 22, 2015, as National Employer Support of the Guard and Reserve Week. I call upon all Americans to join me in expressing our heartfelt thanks to the members of the National Guard and Reserve and their civilian employers. I also call on State and local officials, private organizations, and all military commanders, to observe this week with appropriate ceremonies and activities.

IN WITNESS WHEREOF, I have hereunto set my hand this fourteenth day of August, in the year of our Lord two thousand fifteen, and of the Independence of the United States of America the two hundred and fortieth.

[FR Doc. 2015-20661

Filed 8-18-15; 11:15 am]

Billing code 3295-F5